DEPARTMENT OF COMMERCE

National Institute of Standards and Technology

[Docket No. 031003246-3246-01]

National Voluntary Conformity Assessment System Evaluation (NVCASE) Program

AGENCY: National Institute of Standards and Technology, Commerce.

ACTION: Notice.

SUMMARY: The National Institute of Standards and Technology (NIST) announces the establishment of a sub-program under the National Voluntary Conformity Assessment System Evaluation (NVCASE) program to recognize accreditors of certification bodies involved in organic production and processing. The sub-program is being established pursuant to NVCASE procedures in response to a request from the International Organic Accreditation Service. Accreditation bodies recognized by NIST may then accredit certification bodies that are involved in organic production and processing.

The action being taken under this notice addresses both general and specific NVCASE requirements relating to organic production and processing. Sub-program requirements have been developed in accordance with NVCASE procedures and with public consultation. Public input was obtained at an open meeting on May 9, 2003.

DATES: Applications will be accepted beginning December 4, 2003.

ADDRESSES: Applications for recognition may be obtained from, and returned to, NVCASE Program Manager, NIST, 100 Bureau Drive, Mailstop 2150, Gaithersburg, MD 20899-2150, (Attention: Jogindar S. Dhillon), or by fax (301) 975-5414, or e-mail at dhillon@nist.gov.

FOR FURTHER INFORMATION CONTACT: Jogindar S. Dhillon, NIST, 100 Bureau Drive, Mailstop 2150, Gaithersburg, MD 20899-2150, fax: (301) 975-5414, e-mail: dhillon@nist.gov.

SUPPLEMENTARY INFORMATION: The NVCASE sub-program to recognize accreditation bodies that accredit certification bodies for organic production and processing is being established in accordance with NVCASE program procedures, 15 CFR 286.2(b)(3)(iii). The general and specific requirements were established pursuant to NVCASE procedures as cited in 15 CFR 286.5. Public consultation on these requirements was conducted at a workshop held on May 9, 2003. This workshop was announced in the Federal Register Vol. 68, No. 63/Wednesday, April 2, 2003.

NIST will apply the general requirements contained in the International Organization for Standardization/International Electrotechnical Commission (ISO/IEC) Guide 61—“General Requirements for Assessment and Accreditation of Certification/Registration Bodies” or its latest revision to all applicant accreditation bodies. These general requirements will be supplemented by specific technical requirements outlined below and contained in the NVCASE handbook, available upon request from NIST.

Under this sub-program, NIST-recognized accreditors will accredit certification bodies for conformance to:

(i) The International Federation of Organic Agriculture Movements' (IFOAM) Accreditation Criteria and IFOAM Basic Standards for organic production and processing; and/or

(ii) ISO/IEC Guide 65—“General Requirements for bodies operating product certification systems”—and international standards, as requested by the applicant certification bodies, in the field of organic production and processing.

NVCASE recognition of an accreditor of “Organic Production and Processing” certification bodies does not convey recognition by any other organization.

NIST will accept applications from interested accreditation bodies for recognition to accredit certification bodies involved in organic production and processing until December 4, 2003. All accreditation bodies that have submitted a complete application and required fees to NIST within 30 days after the beginning of the acceptance of applications will be included in an initial group for evaluation. Applications received subsequently will be considered on an as-received basis for evaluation after the initial group of applicants has been considered. You may request a copy of the application from the NVCASE Program Manager at the contact information noted above. Further information for the evaluation process can be obtained from the NVCASE Program Handbook, NISTIR 6440; 2002 ED, available at http://ts.nist.gov/nvcase. The fees are estimated upon submission of the application on an individual basis. NIST will announce the recognition of qualified accreditation bodies on the NVCASE web site at http://ts.nist.gov/nvcase.

This notice contains a collection of information requirement subject to the Paperwork Reduction Act. This collection of information has been approved by the Office of Management and Budget (OMB) under the following control Number: 0693-0019. Notwithstanding any other provision of law, no person is required to respond nor shall a person be subject to a penalty for failure to comply with a collection of information subject to the requirements of the Paperwork Reduction Act unless that collection of information displays a currently valid OMB Control Number.

Dated: October 28, 2003.
Arden L. Bement, Jr.,
Director.

[FR Doc. 03-27606 Filed 11-3-03; 8:45 am]

BILLING CODE 3510-13-U